DEPARTMENT OF HEALTH AND HUMAN SERVICES

Indian Health Service

Proposed Information Collection; Request for Public Comment: Indian Health Service Loan Repayment Program (LRP)

AGENCY: Indian Health Service, HHS.

ACTION: Notice.

SUMMARY: In compliance with Section 3506(c)(2)(A) of the Paperwork Reduction Act of 1995, which requires 30 days for public comment on proposed information collection projects, the Indian Health Service (IHS) has submitted to the Office of Management and Budget (OMB) a request to review and approve the information collection listed below. This proposed information collection project was previously published in the Federal Register (77 FR 11558) on February 27, 2012 and allowed 60 days for public comment. No public comment was received in response to the notice. The purpose of this notice is to allow 30 days for public comment to be submitted directly to OMB.

Proposed Collection: Title: 0917-0014, “Indian Health Service Loan Repayment Program.” Type of Information Collection Request: Revision of currently approved information collection, 0917-0014, “Indian Health Service Loan Repayment Program.” The LRP application has been revised so that it is now available in an electronically fillable and fileable format. Form(s): The IHS LRP Information Booklet contains the instructions and the application formats. Need and Use of Information Collection: The IHS LRP identifies health professionals with pre-existing financial obligations for education expenses that meet program criteria and who are qualified and willing to serve at, often remote, IHS health care facilities. Under the program, eligible health professionals sign a contract through which the IHS agrees to repay part or all of their indebtedness for professional training time in IHS health care facilities. This program is necessary to augment the critically low health professional staff at IHS health care facilities.

Any health professional wishing to have their health education loans repaid may apply to the IHS LRP. A two-year contract obligation is signed by both parties, and the individual agrees to work at an IHS location and provide health services to American Indian and Alaska Native individuals.

The information collected via the on-line application from individuals is analyzed and a score is given to each applicant. This score will determine which applicants will be awarded each fiscal year. The administrative scoring system assigns a score to the geographic location according to vacancy rates for that fiscal year and also considers whether the location is in an isolated area. When an applicant accepts employment at a location, they in turn “pick-up” the score of that location. Affected Public: Individuals and households. Type of Respondents: Individuals.

The table below provides: Types of data collection instruments, Estimated number of respondents, Number of responses per respondent, Annual number of responses, Average burden hour per response, and Total annual burden hour(s).

Estimated Burden Hours
Data collection instrument(s) | Number of respondents | Number of responses per respondent | Average burden per response (in hours) | Total annual responses (in hours)
LRP Application | 510 | 1 | 1.5 | 765

There are no Capital Costs, Operating Costs, and/or Maintenance Costs to report.

Requests for Comments: Your comments and/or suggestions are invited on one or more of the following points:

(a) Whether the information collection activity is necessary to carry out an agency function;

(b) Whether the agency processes the information collected in a useful and timely fashion;

(c) The accuracy of public burden estimate (the estimated amount of time needed for individual respondents to provide the requested information);

(d) Whether the methodology and assumptions used to determine the estimates are logical;

(e) Ways to enhance the quality, utility, and clarity of the information being collected; and

(f) How the newly created online application assists the applicant efficiently and effectively.

Direct your comments to OMB: Send your comments and suggestions regarding the proposed information collection contained in this notice, especially regarding the estimated public burden and associated response time to: Office of Management and Budget, Office of Regulatory Affairs, New Executive Office Building, Room 10235, Washington, DC 20503, Attention: Desk Officer for IHS.

To request more information on the proposed collection, or to obtain a copy of the data collection instruments and/or instruction(s) contact: Ms. Tamara Clay, IHS Reports Clearance Officer, 801 Thompson Avenue, TMP, Suite 450-30, Rockville, MD 20852-1627; call non-toll free (301) 443-4750; send via facsimile to (301) 443-2316; or send your email requests, comments, and return address to: Tamara.Clay@ihs.gov. Comment Due Date: June 11, 2012. Your comments regarding this information collection are best assured of having full effect if received within 30 days of the date of this publication.

Dated: May 4, 2012.
Yvette Roubideaux,
Director, Indian Health Service.

[FR Doc. 2012-11284 Filed 5-9-12; 8:45 am]

BILLING CODE 4165-16-P